COMMISSION ON CIVIL RIGHTS

Notice of Public Meeting of the Maryland Advisory Committee

AGENCY: Commission on Civil Rights.

ACTION: Announcement of planning meeting.

SUMMARY: Notice is hereby given, pursuant to the provisions of the rules and regulations of the U.S. Commission on Civil Rights (Commission), and the Federal Advisory Committee Act (FACA), that a meeting of the Maryland Advisory Committee to the Commission will convene by Zoom virtual platform and conference call on Monday, September 19, 2022, at 12:00 p.m. ET, to discuss post-report promotional activity for the Committee's recent publication on water affordability in the state.

DATES: Monday, September 19, 2022, at 12:00 p.m. ET.

Public Zoom Conference Link (video and audio): https://tinyurl.com/bddy82fb; password, if needed: USCCR-MD.

If Phone Only: 1-551-285 1373; Meeting ID: 161 697 5221#.

FOR FURTHER INFORMATION CONTACT: Melissa Wojnaroski at mwojnaroski@usccr.gov.

SUPPLEMENTARY INFORMATION: The meeting is available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request additional accommodations, please email mwojnaroski@usccr.gov at least 10 days prior to the meeting.

Members of the public are invited to make statements during the open comment period of the meeting or submit written comments. The comments must be received in the regional office approximately 30 days after each scheduled meeting. Written comments may be emailed to Melissa Wojnaroski at mwojnaroski@usccr.gov. Persons who desire additional information may contact Melissa Wojnaroski at mwojnaroski@usccr.gov.

Records and documents discussed during the meeting will be available for public viewing as they become available at www.facadatabase.gov. Persons interested in the work of this advisory committee are advised to go to the Commission's website, www.usccr.gov, or to contact Evelyn Bohor at ebohor@usccr.gov.

Agenda

Monday, September 19, 2022, at 12:00 p.m. ET

• Welcome and Rollcall

• Discussion: Water Affordability Post-Report Stage

• Open Comment

• Adjournment

Dated: August 25, 2022.
David Mussatt,
Supervisory Chief, Regional Programs Unit.

[FR Doc. 2022-18672 Filed 8-29-22; 8:45 am]

BILLING CODE P